DEPARTMENT OF JUSTICE

[AAG/A Order No. 263-2002]

Privacy Act; System of Records

Pursuant to the Privacy Act of 1974 (5 U.S.C. 552a), notice is given that the United States National Central Bureau of INTERPOL (USNCB) proposes to modify a system of records, specifically, the INTERPOL-United States National Central Bureau (USNCB) Records System, Justice/INTERPOL-001” (last published July 27, 2001, at 66 FR 39201).

This system, which will become effective 30 days from the date of publication, has been revised to include an expanded group of individuals covered by the system, add new categories of records and update and regroup its routine uses to be consistent with those in effect at other law enforcement agencies. In addition, routine uses common to other law enforcement agencies have been added to facilitate the USNCB's law enforcement functions. For clarity, the entire system is reproduced in this publication.

In accordance with 5 U.S.C. 552a(e)(4) and (11), the public is given a 30-day period in which to comment. The Office of Management and Budget (OMB), which has oversight responsibilities under the Privacy Act, requires that it be given a 40-day period in which to review the system. Therefore, please submit any comments by May 10, 2002. The public, OMB, and the Congress are invited to send written comments to Mary Cahill, Management and Planning Staff, Justice Management Division, Department of Justice, 1400 National Place Building, Washington, DC 20530.

A description of the modified system of records is provided below. In addition, in accordance with 5 U.S.C. 552a(r), the Department has provided a report to OMB and the Congress on the proposed modification.

Dated: April 1, 2002.
Robert F. Diegelman,
Acting Assistant Attorney General for Administration.

JUSTICE/INTERPOL-001

SYSTEM NAME:

The INTERPOL-United States National Central Bureau (USNCB) Records System, JUSTICE/INTERPOL-001.

SYSTEM LOCATION:

INTERPOL-U.S. National Central Bureau, Department of Justice, Washington, DC 20530.

CATEGORIES OF INDIVIDUALS COVERED BY THE SYSTEM:

Fugitives; wanted persons; criminal and non-criminal individuals who have been charged or convicted or are subjects of a criminal investigation with international aspects; individuals who may be associated with stolen weapons, motor vehicles, artifacts, or similar items involved in a crime; victims related to humanitarian or criminal investigations; witnesses or confidential sources in a criminal investigation with international aspects; missing and/or abducted persons (including alleged abductors or other individuals associated with a missing or abducted person), and persons who are unable or unwilling to identify themselves; INTERPOL-USNCB, government and non-government contractor, judicial or law enforcement personnel engaged in the performance of official duties; applicants for a license, grant, contract or benefit; and applicants for positions with entities performing law enforcement and non-law enforcement functions.

CATEGORIES OF RECORDS IN THE SYSTEM:

The program records of the INTERPOL-USNCB consist of criminal and non-criminal case files which support the law enforcement and humanitarian functions performed by INTERPOL-USNCB. The files contain electronic data and hard copy records of facsimiles, fingerprints, photographs, criminal investigative reports, applicant checks related to law enforcement and non-law enforcement employment, security, and regulatory matters, licenses, grants, contracts, or benefits, and related data, radio messages (international), log sheets, notices, bulletins or posters, lookouts (temporary and permanent notices including identification information on an individual or item of interest to law enforcement authorities), investigative notes, computer printouts, letters, memoranda, witness statements and records related to deceased persons. Information about individuals includes names, aliases, places and dates of birth, addresses, physical descriptions, various identification numbers, reason for the records or lookouts, and details and circumstances surrounding the actual or suspected violations, humanitarian requests or administrative/operational matters.

AUTHORITY FOR MAINTENANCE OF THE SYSTEM:

22 U.S.C. 263a, and 28 C.F.R. 0.34

PURPOSE(S):

The system manages data on foreign and domestic criminal and non-criminal, humanitarian, and related law enforcement matters. These records are maintained to assist and support international law enforcement cooperation. The data includes fingerprints, photographs, criminal investigative reports, applicant checks, licenses, facsimiles, letters, memoranda, bulletins, posters, log sheets, notices, investigative notes, computer printouts, and similar data. The data is used to facilitate the sharing of information between federal, state, local, and tribal law enforcement-related authorities in the United States, and foreign authorities engaged in law enforcement functions including: the investigation of crimes and criminal activities, obtaining evidence, the sharing of law enforcement techniques, prevention of crime, assistance in humanitarian matters, the location and arrest of fugitives and wanted persons, the location of missing persons, border and immigration control, assistance in litigation, the sharing of criminal history and background information used for investigative purposes, determinations regarding the suitability of applicants for law enforcement and non law enforcement-related employment, and the issuance of a license, grant, contract, or benefit.

ROUTINE USES OF RECORDS MAINTAINED IN THE SYSTEM, INCLUDING CATEGORIES OF USERS AND THE PURPOSES OF SUCH USES:

Information may be disclosed as follows:

(1) In the event a record in this system of records, either alone or in conjunction with other information, indicates a violation or potential violation of law, whether civil, criminal or regulatory in nature, the relevant record may be referred, to the appropriate law enforcement and criminal justice agencies whether foreign, federal, state, local or tribal, charged with the responsibility of investigating or prosecuting such violation or charged with enforcing or implementing such law.

(2) To any person or entity, and to the public generally, to the extent necessary to obtain information or cooperation in efforts to locate, identify, or arrest, if appropriate, fugitives, wanted persons, missing persons, abducted persons, and persons who are unable or unwilling to identify themselves.

(3) To any entity maintaining civil, criminal or other information when necessary to obtain information relevant to a decision by a foreign, federal, state, local, or tribal agency concerning the hiring, appointment, or retention of an employee; the issuance or retention of a security clearance; the execution of a security or suitability investigation; the classification of a job; or the issuance of a contract, grant, license, or benefit.

(4) To officials and employees of a federal agency or entity, including the White House, which has a need for information relevant to a decision concerning the hiring, appointment, or retention of an employee; the issuance or retention of a security clearance; the execution of a security or suitability investigation; the classification of a job; or the issuance of a contract, grant, or benefit.

(5) In an appropriate proceeding before a court or administrative or regulatory body when records are determined by the Department of Justice to be arguably relevant to the proceeding.

(6) To such recipients under such circumstances and procedures as are mandated by federal statute or executive agreement, or where disclosure is pursuant to an international treaty or convention entered into and ratified by the United States.

(7) To the International Criminal Police Organization (INTERPOL) General Secretariat and National Central Bureaus in member countries; and to the INTERPOL Supervisory Board, an international board comprised of three judges having oversight responsibilities regarding the purpose and scope of personal information maintained in the international archives of INTERPOL.

(8) To contractors, grantees, experts, consultants, students, and others performing or working on a contract, service, grant, cooperative agreement, or other assignment for the Federal Government, when necessary to accomplish an agency function related to this system of records.

(9) To the news media and the public pursuant to 28 CFR 50.2 unless it is determined that the release of the specific information in the context of a particular case would constitute an unwarranted invasion of personal privacy.

(10) To a Member of Congress or the Member's staff acting upon the Member's behalf when the Member or staff requests the information on behalf of and at the request of the individual who is the subject of the record.

(11) To the National Archives and Records Administration and General Services Administration in records management inspections conducted under the authority of 44 U.S.C. 2904 and 2906.

(12) To foreign, federal, state, local and tribal licensing agencies or associations which require information concerning the suitability or eligibility of an individual for a license or permit.

(13) To an actual or potential party to litigation or the party's authorized representative for the purpose of negotiation or discussion on such matters as settlement, plea bargaining, or in informal discovery proceedings.

(14) To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(15) A record relating to a case or matter that has been referred by an agency, or that involves a case or matter within the jurisdiction of an agency, or where the agency or its officials may be affected by a case or matter, may be disseminated to such agency to notify the agency of the status of the case or matter or of any decision or determination that has been made, or to make such other inquiries and reports as are necessary during the processing of the case or matter.

(16) To a foreign country, through the United States Department of State or directly to the representative of such country, to the extent necessary to assist such country in apprehending and/or returning a fugitive to a jurisdiction which seeks his return, or to assist such country in civil or criminal proceedings in which the United States or one of its officers or agencies has an interest.

(17) A record relating to a person held in custody pending or during arraignment, trial, sentence, or extradition proceedings, or after conviction or after extradition proceedings, may be disseminated to a federal, state, local, or foreign prison, probation, parole, or pardon authority, or to any other agency or individual concerned with the maintenance, transportation, or release of such a person.

(18) To a federal, state, local, foreign, or international law enforcement agency to assist in the general crime prevention and detection efforts of the recipient agency or to provide investigative leads to such agency.

(19) To any entity or person where there is reason to believe that the recipient is or could become the target of a particular criminal activity or conspiracy, to the extent the information is relevant to the protection of life or property.

POLICIES AND PRACTICES FOR STORING, RETRIEVING, ACCESSING, RETAINING, AND DISPOSING OF RECORDS IN THE SYSTEM:

STORAGE:

Information is stored in file folders and in electronic word files at the INTERPOL-USNCB and at the Washington Federal Records Center. Certain limited data, e.g., that which concerns fugitives and wanted, missing or abducted persons is stored in the Treasury Enforcement Communications System (TECS) TREASURY/CS 00.244, a system published by the U.S. Department of Treasury, and in the National Criminal Information Center (NCIC) [JUSTICE/FBI 001], for a limited time period, or until apprehended or located.

RETRIEVABILITY:

Information is retrieved primarily by name, system identification number, personal identification number, and by weapon serial number or motor vehicle identification number.

SAFEGUARDS:

Information is safeguarded and protected in accordance with Department rules and procedures governing the handling of computerized information. Only those individuals specifically authorized have access to the INTERPOL-USNCB records. Access to INTERPOL-USNCB records is given only to those individuals who require access to perform official duties. In addition, USNCB information resides in the secured INTERPOL-USNCB offices which are staffed twenty-four hours a day, seven days a week. Automated data is password secured.

RETENTION AND DISPOSAL:

Case files closed as of April 5, 1982 and thereafter are disposed of as follows: The hard copy (paper record) will be retained on site at the INTERPOL-USNCB for two years after closing. At the end of the two years post closing, the hard copy will be transferred to the Washington National Records Center for storage. The hard copy (paper record) of the case file may be destroyed five years after transfer to the Washington National Records Center, for a total of seven years post closing, if there has been no case activity. Information contained in electronic case files will be stored on a compact disc two years after closing the case and sent to the Washington National Records Center for destruction in five years, or seven years after case closure, if there has been no case activity. Automated information will be flagged as an archived case and maintained on the LAN server for an indefinite period of time.

SYSTEM MANAGER(S) AND ADDRESS:

Chief, INTERPOL-United States National Central Bureau, Department of Justice, Washington, DC 20530.

Records Management Officer, INTERPOL-United States National Central Bureau, Department of Justice, Washington, DC 20530.

Information Resources Manager, INTERPOL-United States National Central Bureau, Department of Justice, Washington, DC 20530.

NOTIFICATION PROCEDURE:

Inquiries regarding whether the system contains a record pertaining to an individual may be addressed to the Chief, INTERPOL-United States National Central Bureau, Department of Justice, Washington, DC 20530, or to the Freedom of Information Act (FOIA) Specialist at the same location. To enable INTERPOL-USNCB personnel to determine whether the system contains a record relating to him or her, the requester must submit a written request identifying the record system, identifying the category and type of records sought, and providing the individual's full name and at least two items of secondary information (date of birth, social security number, employee identification number, or similar identifying information).

RECORD ACCESS PROCEDURES:

The Attorney General has exempted the INTERPOL-USNCB system from the access, contest, and amendment provisions of the Privacy Act. Some records may be available under the Freedom of Information Act. Inquiries should be addressed to the FOIA/PA Officer, INTERPOL-United States National Central Bureau, Department of Justice, Washington, DC 20530. The letter should be clearly marked “Freedom of Information Request” and a return address provided for transmitting any information to the requester.

CONTESTING RECORD PROCEDURES:

See “Access procedures” above.

RECORD SOURCE CATEGORIES:

Sources of information contained in this system include investigating reports, notes, correspondence, messages, photographs, fingerprints, and other identification materials from federal, state, local, tribal and foreign law enforcement and non-law enforcement agencies (including investigating reports from a system of records published by Department of Treasury Enforcement Communications System (TECS) TREASURY/CS 00.244 or the National Crime Information Center (NCIC); other non-Department of Justice investigative agencies; client agencies of the Department of Justice); statements of witnesses and parties; and the work product of the staff of the INTERPOL-USNCB working on particular cases. Although the organization uses the name INTERPOL-USNCB for purposes of public recognition, the INTERPOL-USNCB is not synonymous with the International Criminal Police Organization (ICPO-INTERPOL), which is a private, intergovernmental organization headquartered in Lyon, France. The Department of Justice USNCB serves as the United States liaison with the INTERPOL General Secretariat and works in cooperation with the National Central Bureaus of other member countries, but is not an agent, legal representative, nor organization subunit of the International Criminal Police Organization. The records maintained by the INTERPOL-USNCB are separate and distinct from records maintained by INTERPOL and INTERPOL-USNCB does not have custody of, access to, nor control over the records of the International Criminal Police Organization.

SYSTEMS EXEMPTED FROM CERTAIN PROVISIONS OF THE ACT:

The Attorney General has exempted this system from subsections (c)(3) and (4), (d), (e), (1), (2), and (3), (e)(4)(G) and (H), (e)(5) and (8), (f), and (g) of the Privacy Act pursuant to 5 U.S.C. 552a (j)(2), and (k)(2) and (k)(5). Rules have been promulgated in accordance with the requirements of 5 U.S.C. 553(b), (c) and (e) and have been published in the Federal Register. See 28 CFR 16.103.

[FR Doc. 02-8427 Filed 4-9-02; 8:45 am]

BILLING CODE 4410-BC-P